DEPARTMENT OF COMMERCE

National Oceanic and Atmospheric Administration

50 CFR Part 622

[Docket No. 1206013412-2517-02; RTID 0648-XE023]

Fisheries of the Caribbean, Gulf of Mexico, and South Atlantic; 2024 Commercial Trip Limit Reduction and Closure for Gulf of Mexico Greater Amberjack

AGENCY: National Marine Fisheries Service (NMFS), National Oceanic and Atmospheric Administration (NOAA), Commerce.

ACTION: Temporary rule; trip limit reduction and closure.

SUMMARY: NMFS reduces the commercial trip limit for greater amberjack in or from the exclusive economic zone (EEZ) of the Gulf of Mexico (Gulf) to 250 lb (113 kg), gutted weight; 260 lb (118 kg), round weight, on June 16, 2024, as a result of 75 percent of the adjusted commercial quota being reached. Additionally, subsequent to the trip limit reduction, NMFS implements an accountability measure (AM) for Gulf commercial greater amberjack to close commercial harvest when NMFS projects landings have reached the adjusted commercial annual catch target (ACT). The 2024 commercial fishing season for greater amberjack in the Gulf EEZ will close on June 30, 2024, and will remain closed through December 31, 2024. These actions are necessary to protect the Gulf greater amberjack resource.

DATES: The commercial trip limit reduction is effective 12:01 a.m., local time, June 16, 2024, until 12:01 a.m., local time, June 30, 2024. The commercial closure is effective 12:01 a.m., local time, June 30, 2024, through December 31, 2024.

FOR FURTHER INFORMATION CONTACT: Frank Helies, NMFS Southeast Regional Office, 727-824-5305, or Frank.Helies@noaa.gov.

SUPPLEMENTARY INFORMATION: NMFS manages the reef fish fishery of the Gulf, which includes greater amberjack, under the Fishery Management Plan for the Reef Fish Resources of the Gulf (FMP). The Gulf of Mexico Fishery Management Council (Council) prepared the FMP, which was approved by the Secretary of Commerce, and NMFS implements the FMP under the authority of the Magnuson-Stevens Fishery Conservation and Management Act (Magnuson-Stevens Act) by regulations at 50 CFR part 622. Unless otherwise specified, all greater amberjack weights discussed in this temporary rule are in round weight.

Regulations at 50 CFR 622.43(a) specify a commercial trip limit for Gulf greater amberjack of 1,000 pounds (lb; 454 kilogram (kg)), gutted weight, (1,040 lb (472 kg)). Additionally, the commercial trip limit is reduced to 250 lb (113 kg), gutted weight, (260 lb (118 kg)) when 75 percent of the commercial quota (commercial ACT) has been landed.

On June 15, 2023, NMFS published the final rule implementing Amendment 54 to the FMP (88 FR 39193). Among other measures, that final rule decreased the commercial annual catch limit (ACL) and commercial quota for Gulf greater amberjack. The Amendment 54 final rule set the commercial ACL and quota at 101,000 lb (45,813 kg), and 93,930 lb (42,606 kg), respectively (50 CFR 622.41(a)(1)(iii) and 622.39(a)(1)(v)).

NMFS previously determined that in 2023, the commercial harvest of greater amberjack exceeded the 2023 commercial ACL of 101,000 lb (45,813 kg) by 35,280 lb (16,003 kg). As described in 50 CFR 622.41(a)(1)(ii), NMFS is required to reduce both the commercial ACL and the commercial quota for greater amberjack in the year following an overage of the commercial ACL, by the amount of any commercial ACL overage. Consistent with the commercial AM, for the 2024 fishing year, NMFS reduced both the commercial ACL and the commercial quota to 65,720 lb (29,810 kg) and 58,650 lb (26,603 kg), respectively (88 FR 90995, November 21, 2023).

On December 18, 2023, NMFS published a final temporary rule to implement emergency measures for Gulf greater amberjack (88 FR 87365). That temporary rule implemented a revised commercial trip limit of seven fish to decrease the likelihood of exceeding the adjusted 2024 catch limits and to extend the 2024 commercial fishing season. The emergency measures are effective through June 15, 2024. On May 15, 2024, NMFS published a proposed rule to implement a framework action recommended by the Council that would modify the commercial trip limit to seven fish (89 FR 42413). However, if implemented, this commercial trip limit will not be effective before NMFS projects that the 2024 adjusted commercial quota will be reached.

Commercial Trip Limit Reduction

NMFS has determined that when the emergency measures implementing the seven fish commercial trip limit end on June 15, 2024, 75 percent of the Gulf greater amberjack 2024 adjusted commercial quota will have been reached. Accordingly, consistent with 50 CFR 622.43(a)(2), NMFS is reducing the greater amberjack commercial trip limit to 250 lb (113 kg), gutted weight, (260 lb (118 kg)) in or from the Gulf EEZ at 12:01 a.m., local time, June 16, 2024. This reduced commercial trip limit will remain in effect until 12:01 a.m., local time, June 30, 2024, the date that NMFS has projected that the Gulf greater amberjack 2024 adjusted commercial quota will be reached.

Commercial AM and Closure

Under 50 CFR 622.41(a)(1)(i), NMFS is required to close the greater amberjack commercial sector when the commercial ACT is reached, or is projected to be reached, by filing a notification to that effect with the Office of the Federal Register. NMFS has determined that the 2024 adjusted commercial ACT of 58,650 lb (26,603 kg) will be reached as of June 30, 2024. Accordingly, NMFS closes commercial harvest of greater amberjack from the Gulf EEZ effective 12:01 a.m., local time, June 30, 2024, through December 31, 2024.

During the commercial closure, the sale or purchase of greater amberjack taken from the EEZ is prohibited. The prohibition on sale or purchase does not apply to the sale or purchase of greater amberjack that were harvested, landed ashore, and sold prior to 12:01 a.m., local time, June 30, 2024, and were held in cold storage by a dealer or processor. The commercial sector for greater amberjack will re-open on January 1, 2025, the beginning of the 2025 greater amberjack commercial fishing season.

Classification

NMFS issues this action pursuant to section 305(d) of the Magnuson-Stevens Act. This action is required by 50 CFR 622.41(a)(1) and 622.43(a)(2), which were issued pursuant to section 304(b) of the Magnuson-Stevens Act, and are exempt from review under Executive Order 12866.

Pursuant to 5 U.S.C. 553(b)(B), there is good cause to waive prior notice and an opportunity for public comment on this action, as notice and comment is unnecessary and contrary to the public interest. Such procedures are unnecessary because the regulations associated with the closure of the greater amberjack commercial sector 50 CFR 622.41(a)(1) and the commercial trip limit reduction at 50 CFR 622.43(a)(2) have already been subject to notice and public comment, and all that remains is to notify the public of the trip limit reduction and subsequent closure. Prior notice and opportunity for public comment are contrary to the public interest because there is a need to immediately implement this action to protect the greater amberjack stock. Prior notice and opportunity for public comment would require time and could result in a harvest well in excess of the commercial ACL. NMFS is required to reduce the 2025 commercial ACT and ACL by the amount of any overage of the 2024 commercial ACL, which would reduce the 2025 fishing season.

For the aforementioned reasons, the Assistant Administrator for Fisheries (AA) also finds good cause to waive the 30-day delay in the effectiveness of this action under 5 U.S.C. 553(d)(3).

Authority: 16 U.S.C. 1801 et seq.

Dated: June 10, 2024.
Kelly Denit,
Director, Office of Sustainable Fisheries, National Marine Fisheries Service.

[FR Doc. 2024-13046 Filed 6-10-24; 4:15 pm]

BILLING CODE 3510-22-P